DEPARTMENT OF THE INTERIOR

Bureau of Land Management

[LLNVS03000 L51010000.ER0000 LVRWF09F8590 241A; 11-08807; TAS:14X5017]

Notice of Availability of Record of Decision for the Solar Millennium, LLC, Amargosa Farm Road Solar Energy Project

AGENCY: Bureau of Land Management, Interior.

ACTION: Notice of Availability.

SUMMARY: The Bureau of Land Management (BLM) announces the availability of the Record of Decision (ROD) for the Solar Millennium, LLC, Amargosa Farm Road Solar Energy Project Environmental Impact Statement (EIS). The Secretary of the Interior approved the ROD on November 15, 2010, which constitutes the final decision of the Department.

ADDRESSES: Copies of the ROD are available upon request from the BLM Southern Nevada District Office, 4701 N. Torrey Pines Drive, Las Vegas, Nevada 89130 or via the internet at the following Web site: http://www.blm.gov/nv/st/en/fo/lvfo.html. Copies of the ROD are also available for public inspection at the BLM Southern Nevada District Office and the BLM Nevada State Office, 1340 Financial Blvd., Reno, Nevada.

FOR FURTHER INFORMATION CONTACT: Gregory Helseth, Renewable Energy Project Manager; telephone: (702) 515-5173; mailing address: BLM Southern Nevada District Office, 4701 N. Torrey Pines Drive, Las Vegas, Nevada 89130; or e-mail: Gregory_Helseth@blm.gov.

SUPPLEMENTARY INFORMATION: The applicant, Solar Millennium, LLC, is authorized to construct the Amargosa Farm Road Solar Energy Project on approximately 6,320 acres of public land in 2 separate phases with a total generating capacity of approximately 500 megawatts (MW) of power. The Amargosa Farm Road Solar Energy Project is a solar facility utilizing parabolic trough solar thermal technology. Phase 1 of the project will generate 250-MW and Phase 2 will generate 250-MW, with an average net output of approximately 232-MW for each phase. Each phase will consist of power blocks, a solar field, a heat transfer fluid and steam generation system, a nitrate salt thermal storage system, conventional water treatment, electrical switchgear, administration, warehouse, and maintenance facilities.

The project facility will disturb approximately 4,350 acres of the 6,320 acre project area and will include solar fields, power blocks, office buildings, maintenance building, parking area, lay down area, storm water detention basin, evaporation ponds, switch yard, and a realignment of Amargosa Farm Road. The Notice of Availability (NOA) for the Draft EIS analyzing impacts of the proposed project was published in the Federal Register on March 19, 2010 (75 FR 13301) for public review and comment. A total of 37 comment letters were received on the Draft EIS. The comments were incorporated, where appropriate, to clarify the analysis presented in the Final EIS. The NOA for the Final EIS was published in the Federal Register on October 15, 2010 (75 FR 63503). The Final EIS analyzes 3 alternatives; a No Action Alternative, the Proposed Action, and a Wet-Cooled Alternative. These alternatives were shaped in part by comments received from the public and internal BLM review.

Alternative 1: No Action. The No Action Alternative assumes the right-of-way application for the Amargosa Farm Road Solar Energy Project would be denied and the proposed project would not be built.

Alternative 2: Proposed Action (Dry-Cooled). This is the Environmentally Preferable Alternative that analyzes the construction, operation, maintenance and decommissioning of 2 dry-cooled solar power plants, each with a nameplate capacity of 250-MW and a net output of approximately 232-MW.

Alternative 3: Wet-Cooled Alternative. Under the wet-cooled alternative, the proponent would construct and operate 2 wet-cooled solar power plants, each with a nameplate capacity of 250-MW and a net output of approximately 242-MW. Each solar plant would be equipped with thermal storage capability and associated linear facilities. Construction and operation of a wet-cooled project would be similar to a dry-cooled plant, however, the net power output from a wet-cooled solar power plant facility is greater than the net power output from a dry-cooled solar power plant facility. Plant components and layout are similar under both the wet- and dry-cooled alternatives; the primary differences are the amount of water used for plant operations, the need for cooling towers for heat rejection from the steam cycle for the wet-cooled alternative, and the area needed for evaporation ponds.

Because this decision is approved by the Secretary of the Interior, it is not subject to administrative appeal (43 CFR 4.410(a)(3)).

Authority: 40 CFR 1506.6 and 1506.10.

Robert V. Abbey,
Director, Bureau of Land Management.

[FR Doc. 2010-29370 Filed 11-19-10; 8:45 am]

BILLING CODE 4310-HC-P